DEPARTMENT OF DEFENSE

Office of the Secretary

Notice of Removal of Designated Chinese Military Companies

AGENCY: Office of the Under Secretary of Defense (Acquisition and Sustainment), Department of Defense.

ACTION: Notice of removal of two companies from the Section 1260H List of Chinese Military Companies Operating in the United States.

SUMMARY: The Deputy Secretary of Defense has determined that the entities listed in the SUPPLEMENTARY INFORMATION section of this notice should be removed from the list of “Chinese military companies.”

FOR FURTHER INFORMATION CONTACT: Mr. Devante Brown (GIES), (703) 695-8545.

SUPPLEMENTARY INFORMATION: Section 1260H of the William M. (Mac) Thornberry National Defense Authorization Act (NDAA) for Fiscal Year (FY) 2021 (Pub. L. 116-283) requires the Secretary of Defense to continue to list “Chinese military companies” annually until December 31, 2030. Paragraph (b)(2) of this section requires the Secretary of Defense to publish the unclassified portion of such list in the Federal Register (FR).

The Deputy Secretary of Defense has determined that the following entities should be removed from the list of “Chinese military companies,” as set out in 89 FR 22698 (April 2, 2024), in accordance with Section 1260H of the William M. (Mac) Thornberry NDAA for FY 2021 (Pub. L. 116-283) based on current information:

IDG Capital Partners Co., Ltd., Advanced Micro-Fabrication Equipment Inc. China.

Dated: December 13, 2024.
Aaron T. Siegel,
Alternate OSD Federal Register Liaison Officer, Department of Defense.

[FR Doc. 2024-30018 Filed 12-17-24; 8:45 am]

BILLING CODE 6001-FR-P